DEPARTMENT OF AGRICULTURE

Animal and Plant Health Inspection Service

[Docket No. APHIS-2012-0053]

Importation of Fresh Oranges and Tangerines From Egypt Into the United States

AGENCY: Animal and Plant Health Inspection Service, USDA.

ACTION: Notice of availability.

SUMMARY: We are advising the public that we have prepared a pest list associated with oranges and tangerines from Egypt that identifies pests of concern. Subsequently, we prepared a commodity import evaluation document to determine the risk posed by peach fruit fly in oranges and tangerines from Egypt. Based on that evaluation, we have concluded that the application of one or more designated phytosanitary measures will be sufficient to mitigate the pest risk. In addition, we are advising the public that we have prepared a treatment evaluation document that describes a new treatment schedule that can be used to neutralize peach fruit fly and Mediterranean fruit fly in oranges and tangerines. We are making the pest list, commodity import evaluation document, and treatment evaluation document available to the public for review and comment.

DATES: We will consider all comments that we receive on or before June 17, 2013.

ADDRESSES: You may submit comments by either of the following methods:

• Federal eRulemaking Portal: Go to http://www.regulations.gov/#!documentDetail;D=APHIS-2012-0053-0001.

• Postal Mail/Commercial Delivery: Send your comment to Docket No. APHIS-2012-0053, Regulatory Analysis and Development, PPD, APHIS, Station 3A-03.8, 4700 River Road Unit 118, Riverdale, MD 20737-1238.

Supporting documents and any comments we receive on this docket may be viewed at http://www.regulations.gov/#!docketDetail;D=APHIS-2012-0053 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Tony Romàn, Import Specialist, PPQ, APHIS, 4700 River Road Unit 156, Riverdale, MD 20737; (301) 851-2242.

SUPPLEMENTARY INFORMATION:

Background

Under the regulations in “Subpart-Fruits and Vegetables” (7 CFR 319.56-1 through 319.56-58), the Animal and Plant Health Inspection Service (APHIS) prohibits or restricts the importation of fruits and vegetables into the United States from certain parts of the world to prevent the introduction and dissemination of plant pests that are new to or not widely distributed within the United States.

Section 319.56-4 contains a performance-based process for approving the importation of commodities that, based on the findings of a pest risk analysis, can be safely imported subject to one or more of the designated phytosanitary measures listed in paragraph (b) of that section.

Oranges (Citrus sinensis) from Egypt were approved to be imported into the United States in 1969, subject to cold treatment for Mediterranean fruit fly (Ceratitis capitata); however, imports of oranges from Egypt were suspended in July 2002 due to the establishment of peach fruit fly (Bactrocera zonata), which is also a pest of citrus in Egypt. Currently, the importation of fresh oranges and tangerines (Citris reticulata) from Egypt is not authorized. We received a request from the national plant protection organization (NPPO) of Egypt to consider the use of cold treatment to mitigate for peach fruit fly in oranges and tangerines (including mandarins and clementines) based on new treatment data the NPPO developed. We determined that cold treatment can be effective for this pest.

Because of the time that had passed since importation of oranges from Egypt was suspended, APHIS prepared a pest list to identify pests of quarantine significance that could follow the pathway of importation of oranges and tangerines from Egypt. Based on the pest list, we then completed a commodity import evaluation document (CIED) to identify phytosanitary measures that could be applied to mitigate the risks of introducing or disseminating the identified pests via the importation of oranges and tangerines from Egypt. We have concluded that fresh oranges and tangerines can safely be imported into the United States from Egypt using one or more of the five designated phytosanitary measures listed in § 319.56-4(b). These measures are:

• The oranges and tangerines must be treated in accordance with 7 CFR part 305 for C. capitata and B. zonata; and

• The oranges and tangerines must be accompanied by a phytosanitary certificate issued by the NPPO of Egypt stating that the consignment has begun or has undergone treatment for C. capitata and B. zonata in accordance with 7 CFR part 305, with an additional declaration stating that the fruit in the consignment was inspected and found free of B. zonata.

Therefore, in accordance with § 319.56-4(c), we are announcing the availability of our pest list and CIED for public review and comment. The pest list and CIED may be viewed on the Regulations.gov Web site or in our reading room (see ADDRESSES above for instructions for accessing Regulations.gov and information on the location and hours of the reading room). You may also request paper copies of the pest list and CIED by calling or writing to the person listed under FOR FURTHER INFORMATION CONTACT.

After reviewing any comments we receive, we will announce our decision regarding the import status of fresh oranges and tangerines from Egypt in a subsequent notice. If the overall conclusions of the analysis and the Administrator's determination of risk remain unchanged following our consideration of the comments, then we will authorize the importation of fresh oranges and tangerines from Egypt into the United States subject to the requirements specified in the CIED.

New Treatment

The phytosanitary treatments regulations contained in part 305 of 7 CFR chapter III set out standards for treatments required in parts 301, 318, and 319 of 7 CFR chapter III for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (a) sets out the process for adding, revising, or removing treatment schedules when there is no immediate need to make a change.

¹ The Treatment Manual is available on the Internet at http://www.aphis.usda.gov/import_export/plants/manuals/ports/downloads/treatment.pdf or by contacting the Animal and Plant Health Inspection Service, Plant Protection and Quarantine, Manuals Unit, 92 Thomas Johnson Drive, Suite 200, Frederick, MD 21702.

The PPQ Treatment Manual does not currently provide a treatment schedule for B. zonata in oranges and tangerines. In accordance with § 305.3(a)(1), we are providing notice of a new cold treatment schedule T107-l that we have determined is effective against B. zonata in oranges and tangerines.

In addition to B. zonata, C. capitata (Medfly) is another pest of concern in oranges originating from Egypt. The new cold treatment schedule T107-l is more stringent than the old treatment schedule approved for C. capitata in oranges and tangerines, T107-a, and therefore we have determined that the new cold treatment schedule is also adequate to mitigate risks from C. capitata.

The reasons for these determinations are described in a treatment evaluation document (TED) we have prepared to support this action. The TED may be viewed on the Regulations.gov Web site or in our reading room. You may also request paper copies of the TED by calling or writing to the person listed under FOR FURTHER INFORMATION CONTACT.

After reviewing the comments we receive, we will announce our decision regarding the changes to the PPQ Treatment Manual that are described in the TED in a subsequent notice. If our determination that it is necessary to add new treatment schedule T107-1 remains unchanged following our consideration of the comments, then we will make available a new version of the PPQ Treatment Manual that reflects the addition of T107-l.

Authority: 7 U.S.C. 450, 7701-7772, and 7781-7786; 21 U.S.C. 136 and 136a; 7 CFR 2.22, 2.80, and 371.3.

Done in Washington, DC, this 15th day of April 2013.
Kevin Shea,
Acting Administrator, Animal and Plant Health Inspection Service.

[FR Doc. 2013-09146 Filed 4-17-13; 8:45 am]

BILLING CODE 3410-34-P